NUCLEAR REGULATORY COMMISSION

[NRC-2009-0275]

Notice of Issuance of Regulatory Guide

AGENCY: Nuclear Regulatory Commission.

ACTION: Notice of Issuance and Availability of Regulatory Guide 1.50, Revision 1, “Control of Preheat Temperature for Welding of Low-Alloy Steel.”

FOR FURTHER INFORMATION CONTACT: Gary L. Stevens, Office of Nuclear Regulatory Research, U.S. Nuclear Regulatory Commission, Washington, DC 20555-0001, telephone: (301) 251-7569 or e-mail Gary.Stevens@nrc.gov.

SUPPLEMENTARY INFORMATION:

I. Introduction

The U.S. Nuclear Regulatory Commission (NRC or Commission) is issuing a revision to an existing guide in the agency's “Regulatory Guide” series. This series was developed to describe and make available to the public information such as methods that are acceptable to the NRC staff for implementing specific parts of the agency's regulations, techniques that the staff uses in evaluating specific problems or postulated accidents, and data that the staff needs in its review of applications for permits and licenses.

Revision 1 of Regulatory Guide 1.50, “Control of Preheat Temperature for Welding of Low-Alloy Steel,” was issued with a temporary identification as Draft Regulatory Guide, DG-1222. This guide describes a method that the staff of the NRC considers acceptable for implementing regulatory requirements related to the control of welding for low-alloy steel components during initial fabrication. This guide applies to light-water-cooled reactors.

II. Further Information

In June 2009, DG-1222 was published with a public comment period of 60 days from the issuance of the guide. The public comment period was extended until October 1, 2009. The staff's responses to the comments received are located in the NRC's Agencywide Documents Access and Management System (ADAMS) under Accession No. ML101880091. Electronic copies of Regulatory Guide 1.50, Revision 1 are available through the NRC's public Web site under “Regulatory Guides” at http://www.nrc.gov/reading-rm/doc-collections/. The regulatory analysis may be found under ADAMS Accession No. ML101870625.

In addition, regulatory guides are available for inspection at the NRC's Public Document Room (PDR) located at Room O-1F21, One White Flint North, 11555 Rockville Pike, Rockville, Maryland 20852-2738. The PDR's mailing address is USNRC PDR, Washington, DC 20555-0001. The PDR can also be reached by telephone at (301) 415-4737 or (800) 397-4209, by fax at (301) 415-3548, and by e-mail to pdr.resource@nrc.gov.

Regulatory guides are not copyrighted, and NRC approval is not required to reproduce them.

Dated at Rockville, Maryland, this 7th day of March, 2011.
For the Nuclear Regulatory Commission.
Thomas H. Boyce,
Chief, Regulatory Guide Development Branch, Division of Engineering, Office of Nuclear Regulatory Research.

[FR Doc. 2011-5970 Filed 3-14-11; 8:45 am]

BILLING CODE 7590-01-P